DEPARTMENT OF LABOR

Employment and Training Administration

[TA-W-37,466, TA-W-37,466A]

Rochester Button Company; South Boston, VA; Kenbridge VA; Amended Certification Regarding Eligibility To Apply for Worker Adjustment Assistance

In accordance with Section 223 of the Trade Act of 1974 (19 U.S.C. 2273) the Department of Labor issued a Certification of Eligibility to Apply for Worker Adjustment Assistance on April 13, 2000, applicable to workers of Rochester Button Company, South Boston, Virginia. The notice will be published soon in the Federal Register.

At the request of the company, the Department reviewed the certification for workers of the subject firm. Information received by the company shows that worker separations occurred at the Kenbridge, Virginia location of Rochester Button Company. The workers are engaged in the production of polyester buttons.

The intent of the Department's certification is to include all workers of Rochester Button Company who were adversely affected by increased imports.

Accordingly, the Department is amending the certification to cover the workers of Rochester Button Company, Kenbridge, Virginia.

The amended notice applicable to TA-W-37,466 is hereby issued as follows:

All workers of Rochester Button Company, South Boston, Virginia (TA-W-37,466), and Kenbridge, Virginia (TA-W-37,466A), who became totally or partially separated from employment on or after March 1, 1999, through April 13, 2002 are eligible to apply for adjustment assistance under Section 223 of the Trade Act of 1974.

Signed at Washington D.C. this 27th day of April, 2000.
Grant D. Beale,
Program Manager, Division of Trade Adjustment Assistance.

[FR Doc. 00-11114 Filed 5-3-00; 8:45 am]

BILLING CODE 4510-30-M